DEPARTMENT OF HEALTH AND HUMAN SERVICES

National Institutes of Health

National Institute of Mental Health; Amended Notice of Meeting

Notice is hereby given of a change in the meeting of the National Institute of Mental Health Special Emphasis Panel, February 9, 2011, 10:30 a.m. to February 9, 2011, 2 p.m., National Institutes of Health, Neuroscience Center, 6001 Executive Boulevard, Rockville, MD, 20852 which was published in the Federal Register on January 5, 2011, 76 FR 572.

The meeting will be held at the same place, but the time has changed to 1 p.m. to 4 p.m. Francois Boller, PhD will now be the Scientific Review Officer for this meeting. The meeting is closed to the public.

Dated: January 28, 2011.
Jennifer S. Spaeth,
Director, Office of Federal Advisory Committee Policy.

[FR Doc. 2011-2380 Filed 2-2-11; 8:45 am]

BILLING CODE 4140-01-P